DEPARTMENT OF TRANSPORTATION

Federal Transit Administration

Job Access and Reverse Commute Program Grants

AGENCY: Federal Transit Administration (FTA), DOT.

ACTION: Notice of availability of funds; solicitation for grant proposals.

SUMMARY: The U.S. Department of Transportation's (DOT) Federal Transit Administration (FTA) announces the solicitation of grant proposals for Fiscal Years (FY) 2002 and 2003 funding provided under the Job Access and Reverse Commute (JARC) grant program, as authorized under Section 3037 of the Transportation Equity Act for the 21st Century (TEA-21). The FY 2002 DOT Appropriations Act provides $125 million for the JARC Program, the guaranteed funding level under TEA-21. In the FY 2002 Conference Report the appropriators indicated their desire for $109,339,000 of this amount to be awarded to specified States and localities. These congressionally-specified areas were included in FTA's 2002 Annual Apportionment Notice, published in the Federal Register on January 2, 2002. That notice can be found at: http://www.fta.dot.gov/library/legal/federalregister/2002/fr1202a.pdf. States, localities, and private nonprofit agencies listed in the report, along with States, localities, and private nonprofit agencies not so listed, must follow the application procedures provided in this notice to apply for JARC funding. The guaranteed funding level for the JARC program is $150 million for fiscal year 2003, the final year of the program under FTA's current authorizing legislation. This announcement describes the conditions under which proposals will be received for the FY 2002 and FY 2003 JARC competitive grant program and the criteria that FTA will apply in evaluating project proposals. It includes all of the information needed to apply for JARC competitive grants.

This announcement is available on the U.S. Department of Transportation's FTA website at: http://www.fta.dot.gov/wtw.

DATES: All proposal applications for funding of continuation projects must be submitted to the appropriate FTA regional office (see Appendix B) and be received no later than June 7, 2002. Proposal applications for new projects must be submitted no later than July 8, 2002, but applicants must notify the appropriate regional office of their intent to apply for funding no later than June 7, 2002. The 60-day deadline will allow FTA to inform Congress of demands for FY 2003 funds before deliberation on FTA's fiscal year 2003 budget. The selection of projects to be funded will be announced upon completion of the evaluation process.

FOR FURTHER INFORMATION CONTACT: the appropriate FTA Regional Administrator (see Appendix B) for proposal-specific information and issues. For general program information, contact Sue Masselink, Office of Program Management, (202) 366-2053, email sue.masselink@fta.dot.gov. A TDD is available at 1-800-877-8339 (TDD/FIRS). Comments or questions related to this notice may be mailed, faxed, or electronically submitted to Sue Masselink, Federal Transit Administration, Room 9315, 400 7th Street, SW., Washington, DC 20590; FAX (202) 366-7951; email: sue.masselink@fta.dot.gov.

SUPPLEMENTARY INFORMATION:

Table of Contents

I. Fiscal Years 2002 and 2003 Program Highlights

II. General Program Information

III. Guidelines for Preparing Grant Proposal Applications

IV. Grant Proposal Application Development and Submission

V. Grant Proposal Application Review and Evaluation Process

VI. General Grant Requirements and Performance Monitoring

Appendix A JARC Grant Proposal Application

Appendix B FTA Regional Offices

Appendix C Definitions

Appendix D Program Background Information

Appendix E Summary of FTA's Section 5307 Requirements

Appendix F Information Required by the U.S. Department of Labor For Labor Certification

Appendix G Agency Classifications

I. Fiscal Years 2002 and 2003 Program Highlights

A. Projects for Congressionally-Designated Areas

Applicants for JARC projects in congressionally-designated areas must submit applications responding to the program selection criteria and will be evaluated, scored, and ranked against all other applicants. Consistent with statutory requirements for competitive selection of projects, funds will be allocated among all projects, including those in congressionally-designated areas, based upon their ranking in the competitive evaluation process and other factors as set forth in this notice.

B. Multi-Year Funding

Because recipients of JARC funds have expressed the need for multi-year funding through the early stages of project implementation and because FY 2003 is the last year of the authorization period for the JARC program, FTA will consider multi-year funding. To give effect to this new policy, FTA will give priority to funding continuation of previously selected projects. FTA is soliciting applications for funding from those applicants previously funded under the JARC program, as well as from new JARC applicants. Grantees may apply for up to two additional years of continuation funding beyond that previously approved. Continuation does not include expansion of services beyond those previously funded. Expanded services will be treated as new projects. Applicants for all new projects, both existing JARC recipients and eligible applicants that have not previously been awarded JARC funds, are encouraged to apply for a level of funding that will allow them to sustain new service for at least two years.

C. New Freedom Initiative Principles

The President and the Federal Departments are moving to implement a “New Freedom” Initiative, the intent of which is to tear down the barriers to equality for persons with disabilities that remain after the implementation of the Americans with Disabilities Act. As part of that initiative, the President is proposing funding in FY 2003 to support additional transportation services to assist persons with disabilities to reach jobs. The major goal of the JARC program is to increase access to jobs for welfare recipients and other low-income individuals, and persons with disabilities are disproportionately represented among low-income groups. The unemployment rate for Americans with disabilities hovers at around 70 percent. The lack of adequate transportation is a primary barrier to work for people with disabilities; one-third of people with disabilities report that transportation is a significant problem.

Accordingly, area-wide JARC Transportation Plans must address the mobility needs of persons with disabilities, among others, in reaching employment sites and support activities. Plans previously developed that did not address the mobility needs of persons with disabilities must be revised to include this information. Projects addressing the needs of persons with disabilities will also be eligible for New Freedom Initiative funding being proposed by the Department of Transportation in FY 2003, subject to these funds being made available by Congress.

D. Automobile Programs

While direct funding to individuals for private automobile ownership and repair is not eligible under the program, funds may be used for local programs that assist individuals in acquiring and maintaining vehicles, such as loan programs that help low-income individuals purchase vehicles. Agencies that receive funding for such projects must ensure that title to the vehicles remains with the funded agency, that the vehicles are used for shared rides, and that the vehicles are used for intended purposes.

E. Pre-Award Authority

FTA is providing pre-award spending authority for this program which permits successful applicants to incur costs on eligible projects without prejudice to possible Federal participation in the cost of the project(s). However, in exercising pre-award authority, successful applicants must comply with all Federal requirements. Failure to do so will render a project ineligible for FTA financial assistance. Successful applicants must consult the appropriate FTA regional office regarding the eligibility of the project for future FTA funds or the applicability of the conditions and Federal requirements. Pre-award spending authority is provided to projects selected and announced in response to this notice effective December 18, 2001, the date on which the Department of Transportation (DOT) and Related Agencies Appropriations Act for Fiscal Year 2002 was signed into law by President Bush.

F. Electronic Application

An electronic application for FY 2002/2003 proposals is posted on the FTA website at: http://www.fta.dot.gov/wtw/ftagpa.html. Applicants may input information directly without downloading the application.

II. General Program Information

A. Authority.

This program is authorized under Section 3037 of the Transportation Equity Act for the 21st Century (TEA-21).

B. Scope

Improving mobility and advancing economic development are key strategic goals of the US DOT. Job Access funds help improve mobility and economic opportunity for welfare recipients and other low-income people through the provision of new or expanded transportation service. Reverse Commute funds help improve mobility to suburban employment opportunities for the general public, including welfare recipients and low-income individuals.

C. Eligible Applicants

Local agencies and authorities and private non-profit organizations are eligible to apply for JARC Program funds. Local agencies and authorities include states, local governments, metropolitan planning organizations, public transit agencies and tribal organizations.

In urbanized areas with populations of 200,000 or more, MPOs select the applicant(s). FTA urges MPOs to designate a single recipient to submit a consolidated application in these urbanized areas.

In areas with populations under 200,000, states select the applicants. For areas with populations between 50,000 and 200,000, applications forwarded to the state for selection must be endorsed by the area MPO as a project the MPO would be willing to include in the Transportation Improvement Program if the projects were selected for funding. States are urged to serve as the designated recipients for grants to small urban and nonurbanized areas. The selected grant recipient can suballocate funds to other project participants.

D. Eligible Projects

Job Access and Reverse Commute Projects. A Job Access project is one that provides new or expanded transportation service designed to fill gaps that exist for welfare recipients and other low-income individuals to and from jobs and other employment-related services. A Reverse Commute project facilitates the provision of new or expanded public mass transportation services for the general public from urban, suburban, and rural areas to suburban work sites. Capital and operating costs for such projects are eligible. Localities have wide flexibility in selecting service strategies that are appropriate to their areas, including but not limited to:

(a) Late-night and weekend service;

(b) guaranteed ride home service;

(c) shuttle service;

(d) expanding fixed-route mass transit routes;

(e) demand-responsive van service;

(f) ridesharing and carpooling activities;

(g) bicycling; and

(h) local car loan programs that assist individuals in purchasing and maintaining vehicles for shared-rides

Lead applicants submitting consolidated applications on behalf of a number of subrecipients may apply for program administration costs of up to 10 percent of the grant request.

JARC Program funds may also be used for promoting, through marketing efforts, the:

(a) use of transit by workers with non-traditional work schedules;

(b) the use of transit voucher programs by appropriate agencies for welfare recipients and other low-income individuals;

(c) development of employer-provided transportation such as shuttles, ridesharing, carpooling; or

(d) use of transit pass programs and benefits under Section 13 of the Internal Revenue Code of 1986.

In order to improve customer service and operating efficiency, localities are encouraged to:

(a) establish regional mobility managers or transportation brokerage activities;

(b) apply Geographic Information System (GIS) tools;

(c) implement Intelligent Transportation Systems (ITS), including customer trip information technology;

(d) integrate automated regional public transit and human service transportation information, scheduling and dispatch functions; and

(e) deploy vehicle position-monitoring systems.

E. Ineligible Costs

1. JARC funds may not be used for planning or coordination activities. Metropolitan and Statewide Planning funds made available under the FTA Sections 5303 and 5313(b) programs, FHWA Metropolitan Planning Program (PL) (23 U.S.C. Section 134) and FHWA State Planning and Research Program (SPR) (23 U.S.C. Section 505) funds can be used to fund welfare to work transportation planning activities at a 100 percent Federal share. Other funds, including the U.S. Department of Health and Human Services' Temporary Assistance to Needy Families (TANF) and the U.S. Department of Labor's Welfare-to-Work (WtW) administrative funds can also be used for transportation planning activities consistent with the allowable uses of those resources.

2. While the marketing and promotion of transit pass programs are eligible expenses under the JARC Program, funding individual transit passes is not an eligible expense. Transit passes are eligible expenses under Temporary Assistance for Needy Families (TANF) and Welfare-to-Work programs.

3. Additionally, the construction of child care centers and other employment support facilities at transit hubs are not eligible for JARC Program grants. Transit-oriented construction activities are eligible under FTA's Section 5307, Section 5309, and Section 5311 grant programs.

F. Cost Sharing

The JARC grant program is intended to fill gaps in existing services and leverage other Federal, state and local transportation funding to address the unmet needs of individuals moving from welfare to work and other low-income individuals. Neither funds awarded under this grant program, nor funds used to match the grants, can be used to replace any existing source of funds.

The maximum US DOT share of a grant under the JARC Program may not exceed 50 percent of the total project cost. The non-US DOT share shall be provided in cash or in the form of in-kind services that have a discernable cash value that is directly attributable to the service to be provided. If funds are matched from other Federal programs, the funds must be applied directly to project expenses. Revenues from service agreements are an eligible match, but revenues from individual fares cannot be used as matching funds.

Transportation—eligible funding from Federal programs other than the Department of Transportation may be used to match US DOT funds. These funds include, but are not limited to:

a. Temporary Assistance for Needy Families administered by the U.S. Department of Health and Human Services;

b. Community Services Block Grants (CSBG) and Social Services Block Grants (SSBG) administered by the U.S. Department of Health and Human Services;

c. Workforce Investment and Welfare-to-Work (WtW) formula and competitive grants administered by the U.S. Department of Labor; and

d. Community Development Block Grants (CDBG) and HOPE VI grants administered by the U.S. Department of Housing and Urban Development.

The prohibition on the use of WtW funds for matching requirements under section 403(a)(5)(C)(ii) of the Social Security Act does not apply to Federal or state funds that provide transportation services. TANF and WtW grants, when used as a match, may be expended only for new or expanded transportation services and cannot be used for construction or to subsidize current transit operating expenses. Such funds also must supplement rather than supplant other state expenditures on transportation.

Under the TANF Final Rule, investment in transportation services for families who are employed, including the purchase of transit vouchers, and investments used as match for the JARC program, do not constitute “assistance” and, therefore, do not trigger the 60-month lifetime limit on receipt of Federal benefits nor the reporting requirements of families receiving “assistance.” The Secretaries of Transportation, Labor, and Health and Human Services released revised joint guidance on the use of WtW and TANF funds on June 1, 2000, which reflects changes in the final TANF rule. The joint guidance is at: http://www.fta.dot.gov/wtw/uoft.html.

G. Planning

1. Coordinated Transportation/Human Services Planning Process

The statewide and metropolitan transportation planning processes mandated by TEA-21 promote ongoing, cooperative, and active involvement of public transportation providers, the public, and state, metropolitan and local government agencies in the development of statewide and metropolitan transportation plans and improvement programs. DOT expects that the JARC grant program will be a catalyst for broadening the transportation planning process to better integrate employment and social equity considerations.

Proposed JARC projects must be derived from an Area-wide JARC Transportation Plan (see below) developed through a coordinated public transit and human services transportation planning process. Any interested stakeholder group in the area may initiate the planning process. FTA encourages MPOs to serve as the regional forum in urbanized areas.

The planning process must include transportation planning officials from state and metropolitan transportation planning organizations; representatives of existing transportation service providers (local transit agencies and private nonprofit and for-profit transportation operators, such as human service transportation providers and taxi companies); the agencies administering TANF and WtW formula and competitive grants; and the community to be served. Stakeholders within the community to be served include welfare recipients and low-income residents, as well as community and faith-based organizations, disability groups, farm and migrant worker organizations and other groups representing the interests of low-income persons.

The planning process also should include other stakeholders such as organized transit labor representatives; employment, human service, and child care support service providers; a variety of local and state workforce development organizations including One-stop Career Centers; public and assisted housing providers and community development agencies; economic development agencies; employers and employer groups (such as transportation management organizations and Chambers of Commerce); elected representatives including tribal officials; local government officials including mayors, and county supervisors; and state officials, such as state legislators, governors and others; and interested citizens. Participants in the planning process should provide written endorsement or sign-off of the Area-wide JARC Transportation Plan.

2. Area-Wide JARC Transportation Plan

The purpose of collaboration is to develop a comprehensive area-wide approach to providing transportation services to welfare recipients and low-income persons regardless of jurisdictional boundaries. In general, the JARC Program should be viewed as a catalyst to provide long-term mobility and access to jobs for welfare recipients and low-income individuals. Any project proposed for funding should be identified in the Area-wide Job Access Transportation Plan resulting from the above process. The Plan is not meant to supersede, but to build upon, existing area welfare-to-work transportation planning activities. The Plan must:

a. Identify the geographic distribution of welfare recipients and low-income people in the region;

b. Identify the geographic distributions of employment centers and employment-related activities in the region;

c. Identify existing public, private, non-profit and human services transportation providers in the region;

d. Identify transportation gaps between the geographic distributions of people, as specified in section “a,” and employment, as specified in section “b,” which are not currently served by the transportation services, as specified in section “c;”

e. Identify, in order of funding priority, projects to address the gaps identified in section “d.” Each project identification must include:

(1) The goals and objectives of the project;

(2) the cost of the project;

(3) an explanation of how the project will maximize use of existing transportation service providers and what mechanisms will be used to integrate or coordinate the project services with the existing transportation network;

(4) an explanation of how the project will meet the mobility needs of persons with disabilities in reaching employment sites and support activities; and

(5) identification of any employer-provided or employer-assisted transportation service strategies incorporated in the project.

The area-wide JARC Transportation Plan should build on and incorporate existing welfare-to-work transportation planning activities. As noted in the Fiscal Years 2002 and 2003 Program Highlights, Section I.C. above, if a previously adopted plan did not address the mobility needs of persons with disabilities, it must be revised to include this information.

1. MPO Planning Requirements

In regions with populations of more than 200,000, MPOs are responsible for selecting applicants to be considered for Federal JARC grants. In regions with populations between 50,000 and 200,000, MPOs will recommend projects to the state, which will select the applicants to be considered for Federal JARC grants.

This means that MPOs are responsible for the following:

(a) Determining that JARC projects are consistent with the regional long-range transportation plan.

(b) Ensuring that the submitted application contains projects prioritized according to local need.

(c) Endorsing and subsequently programming JARC projects into the area Transportation Improvement Program in urbanized areas of over 50,000 population.

(d) Conducting the locally-developed public participation process as required by the Joint FHWA/FTA Planning Rule (23 CFR part 450, 49 CFR part 613).

In all regions with MPOs, individual JARC projects must be adopted into the MPO's Transportation Improvement Program (TIP) prior to receiving a grant. Because this entails a formal review and project approval by the MPO Policy Board, FTA strongly urges the partners developing the area-wide JARC transportation plan to communicate with the MPO at an early stage. Further, as financial sustainability of a project is one of the evaluation criteria, coordination with the agencies participating in the MPO forum could be a critical factor in ensuring long-term support for JARC activities.

4. Statewide Transportation Planning Requirements

In all regions with populations of less than 200,000, the state is responsible for selecting applicants based on the recommendation of the MPO in areas between 50,000-200,000 population. In addition, JARC projects selected for funding must be endorsed by the state and incorporated into the statewide transportation improvement program (STIP). Because this requires state approval, FTA strongly urges the partners to communicate with state officials, including the state DOT, at an early stage. In selecting projects in rural areas, states should give priority to projects providing service to places that are not currently served or are underserved by public transit systems. States must prioritize the projects for funding based on their analysis of local needs and service effectiveness, as well as the collaboration achieved among stakeholders. Given the sovereign nature of tribal governments, tribal projects need not be included in the state's prioritization of projects, though they must be included in the State Transportation Improvement Program (STIP).

III. Guidelines for Preparing Grant Proposal Applications

FTA is conducting a national solicitation for application proposals under the JARC Program for FY 2002 and FY 2003 funding. All grant awards, including those to congressionally-specified areas, will be made on a competitive basis. FTA encourages both traditional transportation recipients and new program entrants in urban, suburban, and rural areas to participate in the development of projects. Applicants must submit a proposal that describes the proposed project for which funding is sought and responds to the requirements outlined in this Notice. A project for which funding is sought is a service or set of services targeted to serve welfare recipients and low-income individuals, including persons with disabilities, living in a specific and distinguishable geographic locale. Because FY 2003 is the last year of the program under TEA-21, applicants are encouraged to apply for a level of funding sufficient to sustain the project for two years. If selected for funding, the applicant must document compliance with the standard FTA requirements listed in Appendix E as well as the availability of the financial match for the grant. Contact the appropriate FTA regional office for guidance on meeting standard FTA program requirements.

For continuation projects, applicants must also document satisfactory progress toward achieving JARC program goals. Current JARC grantees desiring continuation of funding for a project must document the continued endorsement of its planning partners, and provide an update of what has already been accomplished and the level of funding drawn down to date. Recipients requesting continuation funding may apply for up to two additional years of funding beyond that previously approved.

A. Grant Funding Amounts

Suggested grant sizes are identified below:

1. For urbanized areas with populations of over one million, FTA expects to make grants of no more than $1 million. (Places with populations of over 5 million may request funding above $1 million.)

2. For urbanized areas with populations greater than 200,000 and less than one million, FTA expects to make grants of no more than $500,000.

3. For urbanized areas with populations between 50,000 and 200,000, FTA expects to make grants of no more than $200,000. States should not submit applications that collectively exceed $1 million for this category.

4. For rural areas (areas with populations of less than 50,000), individual area grant applications generally should not exceed $150,000. Collective grant applications by states for rural areas should not exceed $1 million. Tribal applications may be considered separately from this state funding limitation.

IV. Grant Proposal Application Development and Submission

To promote collaboration and reduce administrative paperwork, FTA strongly encourages the submission of a consolidated application by a single entity in urbanized areas and the submission of a consolidated application by the state for rural areas. In both cases, funds may be passed on to subrecipients. Tribal governments may choose to allow the state to include their project(s) in the state's application or, as sovereign governments, may apply directly to FTA. Since existing FTA grantees such as states and local transit agencies are familiar with many of the FTA requirements that apply to this program, FTA encourages these entities to submit applications on behalf of other entities.

Applicants should submit proposals to the appropriate regional office electronically according to the instructions included in the electronic application form, available through FTA's website at: http://www.fta.dot.gov/wtw/ftagpa.html. If an applicant is unable to submit the application electronically, the proposal should be submitted on a 3.5 inch formatted disk for use on a personal computer (PC). Documents should be submitted to the appropriate Regional Office in Word or Rich Text Format (RTF). Tables should be submitted in an Excel, or Tab Delimited Format. Submission of proposal applications for continuation funding must be received by FTA no later than 60 days after the date of this notice. Submission of proposal applications for funding for new projects must be received by FTA no later than 90 days after the date of this notice, although these applicants must notify the appropriate regional office of their intent to submit a proposal application no later than 60 days after the date of this notice.

V. Grant Proposal Application Review and Evaluation Process

FTA will screen all applications to determine whether all required eligibility elements are present. In addition to mandated project award criteria, FTA will select projects based on what is most advantageous to the government, and may consider the following factors: FTA's commitment to continue funding JARC projects already funded and undertaken; the time frame in which projects can be implemented; Congressional designation of projects for funding; and geographic distribution of project funds.

FTA will notify applicants of selection decisions. Those selected must then submit appropriate certifications, assurances, and other documentation necessary to meet the applicable FTA Section 5307 Urbanized Area Formula Grant Program requirements and be included in the TIP or STIP as appropriate, if these requirements have not been met. Technical assistance regarding these requirements is available from each FTA regional office.

FTA is committed to obligating Job Access and Reverse Commute funding expeditiously. Therefore, FTA urges applicants to develop documentation in accordance with the Section 5307 program guidance as soon as possible. This allows the information necessary for grant approval to be readily available for submission to FTA when projects are selected for funding.

VI. General Grant Requirements and Performance Monitoring

In addition to the project proposal based on the program-specific requirements outlined in this notice, the applicant will be required to submit appropriate certifications, assurances, and other documentation necessary to meet the requirements of FTA's Urbanized Area Formula Grant Program (section 5307 program under Title 49, United States Code—see Appendix E). Applicants must have the financial, legal, and technical capacity to apply for and administer projects. Also included are planning; environmental; school bus; charter; procurement; labor protections; civil rights requirements, including the Americans with Disabilities Act, Title VI, Environmental Justice and Disadvantaged Business Enterprise; and drug and alcohol testing requirements.

Applicants are encouraged to coordinate with affected transit labor unions and to gather all information required by the U.S. Department of Labor for labor certification as soon as possible to avoid delay in the certification process upon grant selection. (See Appendix E for a description of required information).

FTA requires grant recipients to monitor the performance of their JARC services and to cooperate with the FTA and General Accounting Office (GAO) national evaluations mandated by law. Evaluation of JARC project progress will be a key element in determining continuation of FTA financial assistance. Performance measures on: (1) Increasing access between welfare recipients and low-income populations and employment sites; and (2) job access and reverse commute service effectiveness and efficiency must be provided. The required performance measures may be found on FTA's web site (www.fta.dot.gov/wtw). Performance monitoring will take place primarily through FTA standard project progress reports. Information must be reported in accordance with FTA's standard reporting requirements which are: (1) For projects in non-urbanized areas, reporting requirements for the 5311 Program (FTA C 9040.1E, page VI-6): annual program of projects status reports, annual financial status reports, and annual Disadvantaged Business Enterprise (DBE) reports; (2) for projects in urbanized areas, reporting requirements for the 5307 Program: quarterly milestone/progress and financial status reports, National Transit Database reporting, annual audits and triennial review.

Issued on: April 2, 2002.
Jennifer L. Dorn,
Administrator.

Appendix A: JARC Grant Proposal Application

Below is the information that is requested in the JARC electronic form at: http://www.fta.dot.gov/wtw/ftagpa.html.

Federal Transit Administration Job Access and Reverse Commute Program Grant Proposal Application

This section requests information for the application as a whole:

Applicant Information

Name:

Type of Agency (see Appendix G):

Subrecipient Information

List of Subrecipients:

Type of Agencies (see Appendix G):

For Additional Information Contact:

Name:

Address:

Telephone Number:

Fax Number:

Email:

For Notification of Project Selection Contact:

Name:

Address:

Telephone Number:

Fax Number:

Email:

Proposal Summary

(2 paragraphs, 250 words or less, for press purposes, including planning partners, brief description of gaps in service that exist and services proposed to bridge gaps, intended project beneficiaries):

Brief Description of Applicant's Financial, Legal and Technical Ability To Apply for and Administer Projects

Total Federal JARC Funding Requested for All Continuation Projects

| Population: >1,000,000 | Population: 200,000-1,000,000 | Population: 50,000-200,000 | Population: <50,000
FY 2002:
Job Access | $XXXXXXXX | $XXXXXXXX | $XXXXXXXX | $XXXXXXXX
Reverse Commute | $XXXXXXXX | $XXXXXXXX | $XXXXXXXX | $XXXXXXXX
FY 2003:
Job Access | $XXXXXXXX | $XXXXXXXX | $XXXXXXXX | $XXXXXXXX
Reverse Commute | $XXXXXXXX | $XXXXXXXX | $XXXXXXXX | $XXXXXXXX

Total Federal JARC Funding Requested for All New Projects

| Population: >1,000,000 | Population: 200,000-1,000,000 | Population: 50,000-200,000 | Population: <50,000
FY 2002:
Job Access | $XXXXXXXX | $XXXXXXXX | $XXXXXXXX | $XXXXXXXX
Reverse Commute | $XXXXXXXX | $XXXXXXXX | $XXXXXXXX | $XXXXXXXX
FY 2003:
Job Access | $XXXXXXXX | $XXXXXXXX | $XXXXXXXX | $XXXXXXXX
Reverse Commute | $XXXXXXXX | $XXXXXXXX | $XXXXXXXX | $XXXXXXXX

Please List for Each Project in Funding Priority Order

Funding Priority

Short Title

Area Served

Congressional District(s)

Continuation

New

This section requests information on a project-by-project basis.

Projects will be evaluated according to responses to the following four criteria, the values of which are provided. Applicants applying for funding for a number of projects, such as state-wide or metro-wide applicants, should provide the following information for each JARC project. A project is a service or a set of services aimed at a low-income population located in a specific geographic area (see Appendix C—Definitions).

Project (identified by funding priority number from part 1):____

1. Coordinated Human Services/Transportation Planning Process and Regional Job Access and Reverse Commute Transportation Plan (25 Points)

A. Date Area-wide JARC Transportation Plan submitted to appropriate FTA regional office:

Month

Year

B. Date of latest revisions to Area-wide JARC Transportation Plan submitted to appropriate FTA regional office:

Month

Year

C. Brief (250 words or less) description of the collaborative human services/transportation planning process used in developing the Area-wide JARC Transportation Plan, including all participants (states, MPOs, existing transportation providers, agencies administering TANF and WtW funds, employers, and others):

D. Brief (250 words or less) description of outreach efforts to community to be served (i.e., welfare recipients and other low-income individuals).

E. Number of meetings of JARC transportation planning partners since original Area-wide JARC Transportation Plan was submitted to FTA:

0

1

2

3

4 or more

F. Did all partners provide written endorsement of the plan?

Yes

No

G. If not, please explain.

2. Demonstrated Need for Additional Transportation Services (30 Points)

A. Percentage of low-income persons in project service area.

0-20%

21-40%

41-60%

61-80%

81-100%

B. Percentage of low-income persons in Metropolitan Statistical Area or county.

0-20%

21-40%

41-60%

61-80%

81-100%

C. Describe the transportation gaps between existing services and employment opportunities for low-income individuals in the service area. Include:

—Definition of the proposed project service area(s).

—Description of major employment opportunities.

—Description of existing transportation network, including human services, private and public transportation providers.

—Description of transportation gaps between welfare recipients and other low-income populations and employment opportunity sites. (For reverse commute projects, describe need for additional transportation services.)

3. Extent to Which Proposed Services Will Meet the Needs for Service (30 Points)

A. Percentage of target population (low-income population in service areas) served by the proposed project.

1-10%

11-30%

31-50%

51-100%

B. Describe in detail the extent to which the proposed services improve access to employment sites, employment support services (training and child care, etc.) and low-income residential areas. Include:

—Project description, including goals and objectives.

—Operation-specific data, such as miles/hours of service, new routes, route extensions, reduced travel times, etc.

—Indicators that will be used to monitor project performance and to make subsequent adjustments in project implementation.

—Estimate of annualized cost per rider.

—Employment potential in service area, including new jobs/employment sites reached.

—Description of how project meets the mobility needs of persons with disabilities.

D. Describe how the project effectively uses existing transportation providers and integrates new services into existing transportation system or services.

4. Financial Commitments (15 Points)

A. Document sources of matching funds and degree of commitment for this project.

B. Identify long-term financing sources to support continuation of the proposed project or other aspects of the regional plan, including continued transit, human service and employer provided financial resources.

C. For new projects, provide estimate of when services are expected to begin.

Project Budget

Please prepare a separate Budget for each of the following:

Total Capital FTA Assistance—$

List capital costs such as purchase of vehicles and facilities. For vehicles, include the type of vehicles and quantity of each type.

Capital Items

Quantity

Total Eligible Cost

$

$

FTA Amount

$

$

Total Operating FTA Assistance—$

List operating assistance costs. Include the period of performance.

Operating costs

Dates

Total Eligible Cost

$

$

FTA Amount

$

$

Project Administration: Applicants such as State DOT's or MPO's applying on behalf of multiple subrecipients may include up to 10% of the total project costs for project administration.

Total Eligible Cost

$

FTA Amount

$

Total Project Cost:

Total JARC Federal Share

$

$

Total Eligible Cost

$

$

Additional Information From Applicants Requesting Continuation Funding

A. Project was previously funded under grant number(s):

B. Or, grant amendment number(s):

C. Total amount of funds approved for this project in previous year(s):

D. Total amount of funds (from all previous years) dispersed to date:

E. Brief summary of what has been accomplished to date:

F. New stops within ¼ mile of employment, childcare, or employment training sites not previously accessible by transit:

G. Ridership on new transportation services provides since service initiated:

3

Appendix B: FTA Regional Offices

Region I—Massachusetts, Rhode Island, Connecticut, New Hampshire, Vermont and Maine

Richard H. Doyle, FTA Regional Administrator, Volpe National Transportation Systems Center, Kendall Square, 55 Broadway, Suite 920, Cambridge, MA 02142-1093, (617) 494-2055.

Region II—New York, New Jersey, Virgin Islands

Letitia Thompson, FTA Regional Administrator, One Bowling Green, Room 429, New York, NY 10004-1415, (212) 264-8162.

Region III—Pennsylvania, Maryland, Virginia, West Virginia, Delaware, Washington, DC

Susan Schruth, FTA Regional Administrator, 1760 Market Street, Suite 500, Philadelphia, PA 19103-4124, (215) 656-7100.

Region IV—Georgia, North Carolina, South Carolina, Florida, Mississippi, Tennessee, Kentucky, Alabama, Puerto Rico

Jerry Franklin, FTA Regional Administrator, 61 Forsyth Street, S.W., Suite 17T50, Atlanta, GA 30303, (404) 562-3500.

Region V—Illinois, Indiana, Ohio, Wisconsin, Minnesota, Michigan

Joel Ettinger, FTA Regional Administrator, 200 West Adams Street, Suite 320, Chicago, IL 60606-5232, (312) 353-2789.

Region VI—Texas, New Mexico, Louisiana, Arkansas, Oklahoma

Robert Patrick, FTA Regional Administrator, 819 Taylor Street, Room 8A36, Ft. Worth, TX 76102, (817) 978-0550.

Region VII—Iowa, Nebraska, Kansas, Missouri

Mokhtee Ahmad, FTA Regional Administrator, 901 Locust Street, Suite 404, Kansas City, MO 64106, (816) 329-3920.

Region VIII—Colorado, North Dakota, South Dakota, Montana, Wyoming, Utah

Lee Waddleton, FTA Regional Administrator, Columbine Place 216 16th Street, Suite 650, Denver, CO 80202-5120, (303) 844-3242.

Region IX—California, Arizona, Nevada, Hawaii, American Samoa, Guam

Leslie Rogers, FTA Regional Administrator, 201 Mission Street, Suite 2210, San Francisco, CA 94105-1831, (415) 744-3133.

Region X—Washington, Oregon, Idaho, Alaska

Helen Knoll, FTA Regional Administrator, Jackson Federal Building 915 Second Avenue, Suite 3142, Seattle, WA 98174-1002, (206) 220-7954.

Appendix C: Definitions

1. Welfare Recipient—An individual who receives or received aid or assistance under a state program funded under Part A of Title IV of the Social Security Act (whether in effect before or after the effective date of the amendments made by Title I of the Personal Responsibility and Work Opportunity Reconciliation Act of 1996 (Public Law 104-193; 110 Stat. 2110)) at any time during the three-year period before the date on which the applicant applies for a grant.

2. Eligible Low-Income Individual—An individual whose family income is at or below 150 percent of the poverty line (as that term is defined in Section 673(2) of the Community Services Block Grant Act (42 U.S.C. 9902(2)) including any revisions required by that section for a family of the size involved, as calculated by HHS. The 2001 guidelines were published in the February 16, 2001 (Volume 66, Number 33) Federal Register, page 10695-10697, and are available on the web at http://aspe.hhs.gov/poverty/poverty.htm.

3. Existing Transportation Service Providers—Public transportation providers including public, private and non-profit fixed route and paratransit operators, and governmental agencies and nonprofit organizations that receive assistance from Federal, state, or local sources for non-emergency transportation services.

4. Human Services Providers—Agencies and organizations involved in helping welfare recipients and low-income populations to make the transition to work and providing supportive employment services. These agencies and organizations include state and local workforce development organizations, agencies administering TANF and WtW formula and competitive funds, public and assisted housing providers and community development agencies, and, where appropriate, faith-based and community-based organizations providing employment support services.

5. Qualified Entity—(A) With respect to any proposed eligible project in an urbanized area with a population of at least 200,000, the applicant(s) selected by the appropriate Metropolitan Planning Organization that meets the program eligibility requirements, including planning and coordination requirements, from among local governmental authorities and agencies and nonprofit organizations and; (B) With respect to any proposed eligible project in an urbanized area with a population of greater than 50,000 and less than 200,000, or an area other than an urbanized area, the applicant(s) selected by the chief executive officer of the state in which the area is located that meets the program eligibility requirements, including the planning and coordination requirements, from among local governmental authorities and nonprofit organizations.

6. Transit Capital and Operating Assistance Projects—Projects to finance acquisition, construction, improvement, and operating costs of facilities, equipment and associated capital maintenance items used in mass transportation service, including crime prevention and security of and for such equipment and facilities. Direct administrative expenses associated with the provision of job access and reverse commute services are also eligible operating expenses.

7. Community to be Served—Neighborhoods and geographic areas with a disproportionate number of welfare recipients and low-income residents as compared to the general population, and population groups such as tribes, migrant workers, and persons with disabilities who are disproportionately represented among low-income individuals.

8. Metropolitan Planning Organizations (MPO)—Comprised of elected officials representing local governments and transportation service providers within the metropolitan area. They are responsible for adopting transportation plans and improvement programs to address a region's unique transportation needs, and working with states to include these priorities in statewide plans.

9. Project—A service or a set of services aimed at a low-income population located in a specific geographic area. A project may cover the entire area outlined in the Area-Wide Transportation Plan, or it may be aimed at a specific geographic area within that plan. Projects in areas with a population of over 200,000 frequently include services directed toward the low-income population segments of a political jurisdiction within the metropolitan region, but they may address the entire low-income population throughout the metropolitan region. Small urban (between 50,000 and 200,000 in population) and rural areas (populations of below 50,000) can propose projects that may be directed at low-income populations located in a specific area, or throughout a small urban area, county, or even at multi-county populations. State-wide proposals should be divided into specific locations with specific subregions.

Appendix D: Program Background Information

While two-thirds of all new jobs are in the suburbs, three-quarters of welfare recipients live in central cities or rural areas. Studies in some metropolitan areas with extensive transit systems have shown that less than half of the jobs are accessible by transit. Even fewer jobs are accessible by transit in areas with limited transit systems. Many entry-level workers have difficulty reaching jobs during evening or weekend shifts when transit services are frequently diminished or non-existent. Work trips can also be complex, involving several destinations, including childcare providers. The problems can be more challenging in rural areas, where approximately 40 percent of rural counties lack public transit systems and commuting distances generally are longer than in urban areas.

Auto ownership among welfare recipients and other low-income persons is low. Most welfare recipients do not own cars and nearly 40 percent of workers with annual incomes below $10,000 do not commute by car.

Transportation is clearly a key barrier to those moving from welfare to work. Providing a variety of new or expanded transportation options for low-income workers, especially those who are receiving or who have recently received welfare benefits, will increase the likelihood that those workers will get and retain jobs.

The major goal of the JARC Program is to provide transportation services in urban, suburban and rural areas to assist welfare recipients and other low-income individuals in accessing employment opportunities. Another objective of the program is to increase collaboration among regional transportation providers, human service agencies, employers, metropolitan planning organizations (MPOs), states, and affected communities and individuals.

The JARC Program is intended to establish a regional approach to job access challenges through the establishment of an Area-wide JARC Transportation Plan. This plan is to be developed through a collaborative planning process. Projects derived from this plan support the implementation of a variety of transportation services to connect welfare recipients and other low-income individuals to jobs and related employment activities. All projects funded under the JARC Program must be derived from such an area-wide plan.

Funding under the JARC Program is available for a wide range of transportation services, but projects should be developed to make the most efficient use of existing local transportation providers. While projects must be planned in coordination with traditional transit authorities where they exist, other interested organizations, including MPOs and State DOTs, can take the lead in establishing the collaborative planning process or submitting a project application. The collaborative process must include consultation with the community to be served, including welfare recipients and other low-income individuals, persons with disabilities, and faith- and community-based organizations that represent the interests of such individuals.

A Job Access project provides transportation services designed to transport welfare recipients and other low-income individuals to and from jobs and activities related to their employment, such as child-care and training facilities. A Reverse Commute project provides transportation services designed to transport residents of urban, suburban, and rural areas to suburban employment opportunities. JARC projects implement new transportation services or extend existing services to fill the gaps that exist in many areas between where people live and employment sites. JARC projects also promote the use of transportation services through marketing efforts and by improving customer service and operating efficiency. JARC Program funds may not be used for planning or coordinating activities and cannot supplant existing sources of funds used for transportation services.

JARC funds will provide for up to 50 percent of the project cost. A non-US DOT match of at least 50 percent is required. Certain other Federal funds that are eligible to be used for transportation costs can be used as part or all of the non-US DOT match.

Appendix E: Summary of FTA'S Section 5307 Requirements

This is the full range of 5307 requirements. Some of these items are covered in the application, in which case you will not need to submit information twice.

Approval Prerequisites

On file with FTA, or to be submitted with application and updates as appropriate: Opinion of Counsel, Authorizing Resolution, Current annual Certification and Assurances, Civil rights submissions up-to-date (Title VI, Annual DBE Goal, DBE Program, EEO Program, ADA), National Transit Database reports up-to-date, any outstanding oversight findings resolved or resolution plan and schedule set

Additional Information

Project Budget, Project Description, Project Justification/Supporting Information as necessary, Project Milestone Schedule, Labor Union Description(s) (See Appendix F for a description of required information), STIP—Date of Approval by FTA, Request for copy of Master Agreement (If applicant does not have latest one on file)

Appendix F: Information Required by the U.S. Department of Labor for Labor Certification

I. Background

Federal Transit law requires that fair and equitable arrangements must be made, as determined by the U.S. Department of Labor (DOL), to protect the interests of employees affected by Job Access and Reverse Commute grants. These interests include the preservation of rights, privileges, and benefits under existing collective bargaining agreements, the continuation of collective bargaining rights, the protection of individual employees against a worsening of their positions related to employment, assurances of employment to employees of acquired mass transportation systems, priority of reemployment, and paid training or retraining.

DOL processes the employee protection certifications required under section 5333(b) in accordance with procedural Guidelines published at 29 CFR 215.3 (July 28, 1999 Federal Register). The DOL will process Job Access grants serving populations of 200,000 or more by referring a copy of the grant application to labor organizations representing affected employees and seeking the views of organized labor and the grant recipients on proposed certification terms. For grants serving populations under 200,000, DOL will issue its certification without seeking the views of the parties. In either case, the certification terms will be based on existing protective arrangements used for prior FTA grants, if any, or standard operating and/or capital arrangements developed by the DOL where there are no existing arrangements. (Such existing arrangements do not include the Special Section 13(c) Warranty that is used for projects funded under the Section 5311 program.)

It is essential where there are questions regarding the DOL certification process and/or information needed by DOL to obtain a labor certification that the applicant contact the appropriate FTA Regional Office immediately. Where information lacks specificity, is unclear or is missing, DOL will place the grant application in an “incomplete” status until the necessary information is received. Conceptual terms such as “collaborative effort” or “working in conjunction with * * *” or “services will be provided to assist * * *” do not provide the specificity necessary for DOL to process a grant.

Upon receipt of a grant application, DOL will determine whether there is sufficient information to process the grant application. Because it is DOL's responsibility to address the protections afforded employees through the certification of appropriate protections, it must examine the activities of each subrecipient under the grant in order to frame a protective arrangement appropriate to the activity funded.

II. Description of Required Information

DOL needs the following information to process a JARC grant application (including those for areas under 200,000 population) for labor certification.

a. Project Description (Brief). This section should contain a brief, succinct description of what is in the project. This generally would cover the major budget line items.

b. Project Description (Detail). This section should provide a complete description of each activity to be undertaken. It should include funding information, what the project application is for, how and where line items will be used, whether the project is new service, and a description of the operating service area of the recipient or subrecipient. If there is more than one subrecipient under a grant, this information must be developed for each subrecipient's portion of the project.

c. Grantee Contact Person. This information is not contained in the TEAM application. Under “Project Details” please enter the name of a contact person for the grantee. In addition, if the grant will “pass through” funding to one or more subrecipients or other public entities, enter the full name of the subrecipient or other public entity, a contact name, mailing address, telephone number and facsimile number for each of these.

d. Union Information. This information is not contained in the TEAM application. Under “Project Details” please (1) identify all the labor organizations that represent transit employees of the recipient and each subrecipient, and (2) identify any other transportation providers that operate in the service area of the recipient and the subrecipients, and all labor organizations that represent employees of these other transportation providers. Because employee protections are not limited to the employees of the grant recipient, other service area providers must be identified. Please note that a useful reference for obtaining labor union information is contained in Directory of U.S. Labor Organizations, 2001 edition. This may be purchased from the Bureau of National Affairs Books, P.O. Box 7814, Edison, N.J. 08810-7814. Telephone orders: 1-(800)-960-1220.

For each local of a nationally affiliated union, the applicant must provide the name of the national organization and the number or other designation of the local union. (For example, Amalgamated Transit Union Local 1258.) Since DOL makes its referral to the national union's headquarters, there is no need to provide a local contact in these situations.

However, for each independent labor organization (i.e., a union that is not affiliated with a national or international organization) the local contact information will be necessary (name of organization, contact person, mailing address, telephone number, facsimile number).

e. Extended Budget Descriptions. This section must provide a project description and project justification for most line items. There are few line items that need no additional description and/or justification. If there are subreceipients under a grant, indicate which subrecipient will receive funds under each budget description.

If you have any questions, please contact the U.S. Department of Labor, Division of Statutory Programs, at (202) 693-0126.

Appendix G: Agency Classifications

State Government

State DOT

State Human Services

State Labor/Employment

Other State Agencies

Indian Tribe

Regional Public Transit Authority

State Transit Agency

City Transit Agency

County Transit Agency

Private for Profit Companies

Bus

Taxi

Specialized Service (e.g., Medicaid Operator)

Other

Non-Profit Organizations

Human Services Transportation Provider

Community-Based Organization

Other

Transportation Planning Organizations

MPO

Council of Governments

Other

Local governments—General Purpose

County Government

City Government

Human Sevice Agencies

Local County/City Public Human Svcs Agency

Local County/City Welfare Agency

Local County/City Workforce Development Agency

Local Public Housing Agency

Non-Profit Service Providers

Human Support Services (e.g., Child Care, Substance Abuse)

Employment (e.g., Job Training, Job Placement)

Economic Development Agencies

Local/County Government

Non-Profit Corporations

Private Nonprofit Agencies

Community Action Agencies & Organizations

Community-Based Organizations

Faith-Based Organizations

Other private nonprofit organizations

Business Organizations

Chamber of Commerce

Transportation Management Organization

Other Organizations

[FR Doc. 02-8389 Filed 4-5-02; 8:45 am]

BILLING CODE 4910-57-P